DEPARTMENT OF VETERANS AFFAIRS

Privacy Act of 1974; System of Records

AGENCY: Department of Veterans Affairs (VA).

ACTION: Notice of new system of records—Center for Veterans Enterprise VA VetBiz Vendor Information Pages (123VA00VE).

SUMMARY: The Privacy Act of 1974, 5 U.S.C. 522a(e), requires that all agencies publish in the Federal Register a notice of the existence and character of their systems of records. Notice is hereby given that VA is establishing a new system of records entitled “VA VetBiz Vendor Information Pages” (123VA00VE).

DATES: Comments on the establishment of this new system of records must be received no later than June 16, 2003. If no public comment is received, the new system will become effective June 16, 2003.

ADDRESSES: You may mail or hand-deliver written comments concerning the proposed new system of records to the Office of Regulations Management (02D), Department of Veterans Affairs, 810 Vermont Avenue, NW., Washington, DC 20420; or fax comments to (202) 273-9289; or e-mail comments to OGCRegulations@mail.va.gov. All relevant material received before June 16, 2003, will be considered. Comments will be available for public inspection at the above address in the Office of Regulation Policy and Management, room 1158, between the hours of 8 a.m. and 4:30 p.m., Monday through Friday (except holidays).

FOR FURTHER INFORMATION CONTACT: Ms. Gail Wegner (00VE), Department of Veterans Affairs, 810 Vermont Avenue, NW., Washington, DC 20420, telephone number (202) 254-0233.

SUPPLEMENTARY INFORMATION: Public Law 106-50, section 302 requires, in pertinent part:

(5) Establishment of an information clearinghouse to collect and distribute information, including by electronic means, on the assistance programs of Federal, State, and local governments, and of the private sector, including information on office locations, key personnel, telephone numbers, mail and electronic addresses, and contracting and subcontracting opportunities.

(6) Provision of Internet or other distance learning academic instruction for veterans in business subjects, including accounting, marketing, and business fundamentals.

(7) Compilation of a list of small business concerns owned and controlled by service-disabled veterans that provide products or services that could be procured by the United States and delivery of such list to each department and agency of the United States. Such list shall be delivered in hard copy and electronic form and shall include the name and address of each such small business concern and the products or services that it provides.”

Section 604 requires:

(b) Identification of Small Business Concerns Owned by Eligible Veterans. Each fiscal year, the Secretary of Veterans Affairs shall, in consultation with the Assistant Secretary of Labor for Veterans' Employment and Training and the Administrator of the Small Business Administration, identify small business concerns owned and controlled by veterans in the United States. The Secretary shall inform each small business concern identified under this paragraph that information on Federal procurement is available from the Administrator.

This new system of records will be used to maintain and access an automated database containing the information on veteran-owned businesses set forth in the law (section 302, paragraph (7) and section 604, paragraph (b)). While corporations do not have any Privacy Act rights, it is not entirely clear whether individuals acting in an entrepreneurial capacity, such as a sole proprietor of a small business, have Privacy Act rights. Hence, the adoption of this system of records.

The automated database is known as the VA VetBiz Vendor Information Pages (VIP). The database includes data on veteran-owned businesses extracted from the Small Business Administration's Procurement Marketing and Access Network (Pro-Net) database, the Central Contractor Registration database, and other databases. It will be augmented with voluntarily submitted data provided by veteran-owned businesses wishing to do business with the Federal government and private entities either in a capacity as a prime contractor or as a subcontractor.

The information in this system will be maintained in electronic form. The information in these records will be freely available to government agencies, companies, and the general public via the Internet.

A “Report of Intention to Publish a Federal Register Notice of a New System of Records' and an advance copy of the new system notice have been provided to the Chairmen of the House Committee on Governmental Reform and the Senate Committee on Governmental Affairs, and the Director, Office of Management and Budget (OMB), as required by provisions of title 5, U.S.C. 522a (Privacy Act), and guidelines issued by OMB (61 FR 6428) (1996).

Approved: May 2, 2003.
Anthony J. Principi,
Secretary of Veterans Affairs.

123 VA00VE

System Name:

Center for Veterans Enterprise (CVE) VA VetBiz Vendor Information Pages (123VA00VE).

System Location:

Records are maintained at the Center for Veterans Enterprise's office in VA Headquarters, Washington, DC. VA's Automation Center, 1615 E. Woodward Street, Austin, Texas 78772, maintains the computerized database and Web site.

Categories of Individuals Covered by the System:

The system of records will cover all companies owned by veterans that wish to be a part of the system of records, including those already registered in the SBA Pro-Net database and/or the Central Contractor Registration database.

Categories of Records in the System:

The records will contain data on veteran-owned companies who have contacted the Center for Veterans Enterprise or have been extracted from e-government databases to which the companies have voluntarily submitted the data as a part of the marketing efforts to the federal government. The records may include business addresses and other contact information, information concerning products/services offered, information pertaining to the business, including Federal contracts, certifications, and security clearances held.

Authority for Maintenance of the System:

Pub. L. 106-50, as amended.

Routine Uses of Records Maintained in the System Including Categories of Users and the Purposes of Such Uses:

1. Federal, State, and local government personnel will access the system to find veteran-owned businesses to contract with and for purposes of market research in compliance with their respective procurement regulations and procedures.

2. The general public, including companies and corporate entities, will access the system, via Internet, to review the information and to locate potential subcontractors and/or potential teaming partners for purposes of complying with applicable regulations concerning use of veteran-owned businesses.

3. The Center for Veterans Enterprise will use the records and reports derived from the database to manage their responsibilities under the Veterans Entrepreneurship and Small Business Development Act of 1999.

Compatibility of the Proposed Routine Uses:

The Privacy Act permits disclosure of information about individuals without their consent for a routine use when the information will be used for a purpose that is compatible with the purpose for which the information is collected. In all of the routine use disclosures described above, the recipient of the information will use the information in connection with a matter relating to one of VA's programs.

Policies and Practices for Storing, Retrieving, Accessing, Retaining, and Disposing of Records in the System:

Storage:

The VetBiz VIP will be stored in an automated, computerized database. The system will operate on servers located at VA's Austin Automation Center (AAC), 1615 E. Woodward Street, Austin, Texas 78772. Data backups will reside on appropriate media according to normal system backup plans for the AAC. The system will be managed by the Center for Veterans Enterprise in VA Headquarters, Washington, DC.

Retrievability:

Automated records may be retrieved by business name, type, location, previous experience, certifications (e.g. HUBZone, 8(a), etc.), product identifiers (e.g., NAICS), and federal identifiers (e.g. CAGE Code, Pro-Net identification number, etc.).

Safeguards:

Read access to the system is via Internet access. AAC and CVE personnel will have access to the system via VA Intranet and local connections for management and maintenance purposes and tasks. Access to the Intranet portion of the system is via user-id and password at officially approved access points. Veteran-owned businesses will establish and maintain user-ids and passwords for accessing their corporate information under system control. Policy regarding issuance of user-ids and passwords is formulated in VA by the Office of Information and Technology, Washington, DC.

Retention and Disposal:

Records will be maintained and disposed of in accordance with the records disposal authority approved by the Archivist of the United States, the National Archives and Records Administration, and published in Agency Records Control Schedules.

System Manager(s) and Address:

Deputy Director, Center for Veterans Enterprise (00VE), 810 Vermont Avenue, NW., Washington, DC 20420.

Notification Procedures:

Individuals wishing to inquire whether this system of records contains information about themselves should contact the Deputy Director, Center for Veterans Enterprise (00VE), 810 Vermont Avenue, NW., Washington, DC 20420.

Record Access Procedure:

Individuals seeking access to records about themselves contained in this system of records may access the records via the Internet, or submit a written request to the system manager.

Contesting Record Procedures:

An individual who wishes to contest records maintained under his or her name or other personal identifier may write or call the system manager. VA's rules for accessing records and contesting contents and appealing initial agency determinations are published in regulations set forth in the Code of Federal Regulations. See 38 CFR 1.577, 1.578.

Record Source Categories:

The information in this system of records is obtained from the following sources: a. Information voluntarily submitted by the business; b. information gathered from VA contracting activities; and c. information extracted from other business databases.

[FR Doc. 03-12251 Filed 5-15-03; 8:45 am]

BILLING CODE 8320-01-P